DEPARTMENT OF COMMERCE

National Oceanic and Atmospheric Administration

50 CFR Part 665

[Docket No. 070207026-7026-01; I.D. 012207A]

RIN 0648-AS29

Fisheries in the Western Pacific; Optional Use of Electronic Logbook Forms

AGENCY: National Marine Fisheries Service (NMFS), National Oceanic and Atmospheric Administration (NOAA), Commerce.

ACTION: Proposed rule; request for comments.

SUMMARY: This proposed rule would allow fishery participants in U.S. domestic pelagics, crustaceans, bottomfish and seamount groundfish, precious corals, and coral reef fisheries of the western Pacific the optional use of NMFS-approved electronic logbook forms in lieu of paper logbooks. The intended effects of this action are to enhance the efficiency of fish catch and effort data reporting and recordkeeping by fishermen, reduce human error, and improve data accuracy.

DATES: Comments on the proposed rule must be received by March 23, 2007.

ADDRESSES: You may submit comments, identified by AS29elog by any of the following methods:

• E-mail: AS29elog@noaa.gov. Include “AS29elog” in the subject line of the message.

• Federal e-Rulemaking Portal: www.regulations.gov. Follow the instructions for submitting comments.

• Mail: William L. Robinson, Administrator, NMFS Pacific Islands Region (PIR), 1601 Kapiolani Blvd. 1110, Honolulu, HI 96814.

Written comments regarding the burden-hour estimates or other aspects of the collection-of-information requirements contained in this proposed rule may be submitted to William L. Robinson (see ADDRESSES), or by e-mail to David_Rostker@omb.eop.gov, or faxed to 202-395-7285.

Copies of the Fishery Management Plans (FMPs) and the regulatory amendment document that describes the proposed changes may be obtained from Kitty M. Simonds, Executive Director, Western Pacific Fishery Management Council (Council), 1164 Bishop Street, Suite 1400, Honolulu, HI 96813 or via the World Wide Web at www.wpcouncil.org.

FOR FURTHER INFORMATION CONTACT: Bob Harman, NMFS PIR, 808-944-2271.

SUPPLEMENTARY INFORMATION:

Electronic Access

This Federal Register document is also accessible via the World Wide Web at the Office of the Federal Register: www.gpoaccess.gov/fr/index.html.

Background

The NMFS Pacific Islands region encompasses western Pacific Federal waters, i.e., the 200 nautical mile U.S. Exclusive Economic Zone (EEZ), around the Territories of Guam and American Samoa, the State of Hawaii, the Commonwealth of the Northern Mariana Islands, and the U.S. island possessions in the Pacific. Western Pacific fisheries are currently managed under five Fishery Management Plans (FMPs)—Pelagics, Crustaceans, Bottomfish and Seamount Groundfish, Precious Corals, and Coral Reef Ecosystems.

Current regulations (50 CFR 665.14) require that permit holders, who fish for western Pacific management unit species subject to Federal reporting requirements, record their catch and effort information on paper logbook forms and submit them to NMFS. Maintaining paper logbook forms, and the interpretation of such forms, is subject to potential errors due to illegible handwriting and missed data entry. The availability and capacity of personal computers offer benefits to fishery participants and NMFS data collection programs. The proposed optional use of electronic logbook data collection systems would utilize existing and emerging technologies to enhance the efficiency of fish catch and effort data reporting and recordkeeping by fishermen, reduce human error, and improve data accuracy. Furthermore, if transmitted through a remote communication system such as electronic mail or vessel monitoring system, electronic reporting provides a near real-time catch reporting system.

At its 123rd meeting in June 2004, the Council took final action to recommend amending the western Pacific regulations to provide fishermen an alternative to the currently-required paper logbook forms. Specifically, fishermen would be allowed to submit logbook data to NMFS on removable non-paper media (such as diskette, CD-ROM, memory stick, etc.), and would also be allowed to transmit the data to NMFS via e-mail or other remote communication systems, where such remote transmission was appropriate and feasible. The option to use electronic logbook forms would be available to fishermen who are subject to Federal reporting requirements under all western Pacific FMPs, as well as those participants in fisheries that may become subject to Federal reporting requirements.

This action does not establish the technical requirements or protocols for the electronic logbook program. The technical and legal specifications and operational details for the electronic logbook software program and hardware requirements will be developed and published by NMFS subsequent to this proposed rule.

Using the information contained in the Council's proposed regulatory amendment, a Regulatory Impact Review (RIR) was prepared for this proposed rule. Copies of the Regulatory Impact Review (RIR) may be obtained from William L. Robinson (see ADDRESSES).

Classification

NMFS has determined that the proposed rule is consistent with the western Pacific FMPs and preliminarily determined that the rule is consistent with the Magnuson-Stevens Fishery Conservation and Management Act and other applicable laws.

This proposed rule has been determined to be not significant for purposes of Executive Order 12866.

The Chief Counsel for Regulation of the Department of Commerce certified to the Chief Counsel for Advocacy of the Small Business Administration that this proposed rule, if adopted, would not have a significant economic impact on a substantial number of small entities. The factual basis for the certification is as follows:

The basis and purpose of this rulemaking are discussed in the preamble to this rule. Nearly 200 vessels, all of which are considered to be small entities under the Small Business Administration definitions, will be impacted by this rule. All vessels are considered small entities because their annual gross receipts are less than $4.0 million, so there will be no disproportionate economic impact between small and large vessels resulting from this proposed rulemaking. In addition, there are no disproportionate economic impacts among vessels resulting from different vessel length, gear type, or location of home port. Considering the positive and minor nature of economic impacts under the preferred alternative, NMFS has determined that this rule will not have a significant economic impact on a substantial number of small business entities because: (1) the rule does not require the use of electronic reporting, and firms choosing to commit to electronic reporting will do so only if this mode of reporting is economically beneficial to them relative to the use of the paper logbooks currently required, and (2) NMFS anticipates that the costs of electronic reporting, for those who choose to adopt it, would only represent a small fraction of the firm's cost of doing business. While this rule could affect a substantial number of vessels, depending on the number of operations opting to choose electronic reporting, it will not have a significant economic impact. As a result, an initial regulatory flexibility analysis is not required and none has been prepared.

This proposed rule contains a collection-of-information requirement subject to review and approval by OMB under the Paperwork Reduction Act (PRA), i.e., the optional use of electronic media for logbook data submissions currently required under OMB Control No. 0648-0214. A request to collect this information has been submitted to OMB for approval. The public reporting burden for this collection-of-information is estimated to average five minutes per response, including the time for reviewing instructions, searching existing data sources, gathering and maintaining the data needed, and completing and reviewing the collection of information.

Public comment is sought regarding: whether this proposed collection of information is necessary for the proper performance of the functions of the agency, including whether the information shall have practical utility; the accuracy of the burden estimate; ways to enhance the quality, utility, and clarity of the information to be collected; and ways to minimize the burden of the collection information, including through the use of automated collection techniques or other forms of information technology. Send comments on these or any other aspects of the collection of information to William L. Robinson (see ADDRESSES), or by email to David_Rostker@omb.eop.gov or fax to (202)395-7285.

Notwithstanding any other provision of the law, no person is required to respond to, nor shall any person be subject to a penalty for failure to comply with a collection-of-information subject to the requirements of the PRA, unless that collection-of-information displays a currently valid OMB control number.

List of Subjects in 50 CFR Part 665

Administrative practice and procedure, American Samoa, Fisheries, Fishing, Guam, Hawaii, Hawaiian Natives, Northern Mariana Islands, Pacific Remote Island Areas, Reporting and recordkeeping requirements.

Dated: February 14, 2007.
John Oliver,
Deputy Assistant Administrator for Operations, National Marine Fisheries Service.

For the reasons set out in the preamble, 50 CFR part 665 is proposed to be amended as follows:

PART 665—FISHERIES IN THE WESTERN PACIFIC

1. The authority citation for part 665 continues to read as follows:

Authority: 16 U.S.C. 1801 et seq.

2. In § 665.14, paragraph (a) is revised to read as follows:

§ 665.14 Reporting and recordkeeping.

(a) Fishing record forms. The operator of any fishing vessel subject to the requirements of §§ 665.21, 665.41, 665.61(a)(4), 665.81, or 665.602 must maintain on board the vessel an accurate and complete record of catch, effort, and other data on paper report forms provided by the Regional Administrator, or electronically as specified and approved by the Regional Administrator. All information specified by the Regional Administrator must be recorded on paper or electronically within 24 hours after the completion of each fishing day. The logbook information, reported on paper or electronically, for each day of the fishing trip must be signed and dated or otherwise authenticated by the vessel operator in the manner determined by the Regional Administrator, and be submitted or transmitted via an approved method as specified by the Regional Administrator, and as required by this paragraph (a). The operator of any vessel subject to the requirements of §§ 665.21, 665.41, 665.61(a)(4), or 665.81 must submit the original logbook information for each day of the fishing trip to the Regional Administrator within 72 hours of each landing of management unit species, unless the fishing was authorized under a PRIA troll and handline permit, a PRIA crustaceans fishing permit, a PRIA bottomfish permit, or a PRIA precious corals fishing permit, in which case the original logbook form for each day of fishing within the PRIA EEZ waters must be submitted to the Regional Administrator within 30 days of each landing of management unit species. For fisheries managed under § 665.602, the original logbook information for each day of the fishing trip must be submitted to the Regional Administrator within 30 days of each landing of management unit species.

[FR Doc. E7-2893 Filed 2-20-07; 8:45 am]

BILLING CODE 3510-22-S